DEPARTMENT OF COMMERCE

National Oceanic and Atmospheric Administration

Agency Information Collection Activities; Submission to the Office of Management and Budget (OMB) for Review and Approval; Comment Request; Non-commercial Permit and Reporting Requirements in the Main Hawaiian Islands Bottomfish Fishery

AGENCY: National Oceanic and Atmospheric Administration (NOAA), Commerce.

ACTION: Notice of Information Collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before October 23, 2020.

ADDRESSES: Interested persons are invited to submit written comments to Adrienne Thomas, NOAA PRA Officer, at Adrienne.thomas@noaa.gov. Please reference OMB Control Number 0648-0577 in the subject line of your comments. Do not submit Confidential Business Information or otherwise sensitive or protected information.

FOR FURTHER INFORMATION CONTACT: Requests for additional information or specific questions related to collection activities should be directed to Walter Ikehara, Fishery Information Specialist, National Marine Fisheries Service (NMFS), Pacific Islands Region, 1845 Wasp Blvd., Bldg. 176, Honolulu, HI 96818, (808) 725-5175, walter.ikehara@noaa.gov.

SUPPLEMENTARY INFORMATION:

I. Abstract

This request is for extension of a currently approved information collection.

The Magnuson-Stevens Fishery Conservation and Management Act (Magnuson-Stevens Act) established regional fishery management councils, including the Western Pacific Fishery Management Council (Council), to develop fishery management plans for fisheries in the U.S. Exclusive Economic Zone (EEZ). If approved by the Secretary of Commerce, the National Oceanic and Atmospheric Administration's (NOAA) National Marine Fisheries Service (NMFS) implements these plans by Federal regulations, which are enforced by NMFS and the U.S. Coast Guard (USCG), in cooperation with State agencies to the extent possible. The Council and NMFS use the fishery management plans to manage fishing to ensure sustained productivity and achievement of optimum yield from the resources for the benefit of the United States. The Council uses fishery ecosystem plans as fishery management plans for federal fisheries management.

Regulations established under the Fishery Ecosystem Plan for the Hawaii Archipelago (FEP) at 50 CFR 665, Subpart C, require that all participants (including vessel owners, operators, and crew) in the boat-based non-commercial bottomfish fishery in the Exclusive Economic Zone around the main Hawaiian Islands obtain a federal bottomfish permit. They are exempt if they hold a current State of Hawaii Commercial Marine License. The information collected in the permit process is needed to identify participants in the fishery, determine qualifications for permitting, support effective enforcement of fishery regulations, and provide a communication link between NMFS and fishermen.

Regulations also require that all vessel owners or operators in this fishery submit a report (logbook) upon completion of each fishing trip to document the species and amount of fish caught during the trip. The information in these logbooks is crucial to monitoring the fishery, developing annual catch limits, evaluating the effectiveness of management measures, determining whether changes in fishery management measures are necessary, and estimating the impacts and implications of alternative management measures.

II. Method of Collection

Respondents may submit permit applications electronically via secure email, or online process when implemented. Logbooks are paper forms that must be submitted to NMFS Pacific Islands Fisheries Science Center.

III. Data

OMB Control Number: 0648-0577.

Form Number(s): None.

Type of Review: Regular submission, extension of a current information collection.

Affected Public: Individuals or households; business or other for-profit organizations.

Estimated Number of Respondents: 100.

Estimated Time per Response: 10 minutes per email permit application; 5 minutes per online permit application; 2 hours per appeal of denied permit; 20 minutes per logbook form.

Estimated Total Annual Burden Hours: 29 hours.

Estimated Total Annual Cost to Public: $4,250.

Respondent's Obligation: Mandatory.

Legal Authority: 50 CFR part 665.

IV. Request for Comments

We are soliciting public comments to permit the Department to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-18493 Filed 8-21-20; 8:45 am]

BILLING CODE 3510-22-P